FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than July 13, 2015.

A. Federal Reserve Bank of Minneapolis (Jacquelyn K. Brunmeier, Assistant Vice President) 90 Hennepin Avenue, Minneapolis, Minnesota 55480-0291:

1. Gerald Lee Reiter, New London, Stanley Glenn Lilleberg, Atwater; Keith Gerard Bangasser, Spicer; Andrew Joseph Steil, St. Cloud, Dennis Alvin Kamstra Nisswa, Joseph Leo Reiter, Willmar; Kristen Janet Nelson, Spicer; and Thomas J. Nelson, Woodbury, all of Minnesota as a group acting in concert to acquire voting common stock of First BancShares, Inc. of Cold Spring, Cold Spring, MN (“Company”), and thereby indirectly acquire control of Granite Community Bank, Cold Spring, Minnesota. In addition, Gerald Lee Reiter and Stanley Glenn Lilleberg; each intend to individually acquire voting common stock of Company.

B. Federal Reserve Bank of Kansas City (Dennis Denney, Assistant Vice President) 1 Memorial Drive, Kansas City, Missouri 64198-0001:

1. David J. Warnemunde and David D. Warnemunde, both of Madison, Nebraska; as members of the Warnemunde family group acting in concert, to acquire control of Madison County Financial, Inc., parent of Madison County Bank, both in Madison, Nebraska.

Board of Governors of the Federal Reserve System, June 23, 2015.
Michael J. Lewandowski,
Associate Secretary of the Board.

[FR Doc. 2015-15799 Filed 6-26-15; 8:45 am]

BILLING CODE 6210-01-P